DEPARTMENT OF JUSTICE

Antitrust Division

Notice Pursuant to the National Cooperative Research and Production Act of 1993—The Open Group, L.L.C.

Notice is hereby given that, on March 2, 2022, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, Amgen Inc., Thousand Oaks, CA; CIBIT Academy B.V, Velp, THE NETHERLANDS; Danbury Mission Technologies, LLC, Danbury, CT; Dianomic Systems, Inc., Menlo Park, CA; Engineered Products of Ohio, LLC., Cortland, OH; Geolog International, Amsterdam, THE NETHERLANDS; Herley Industries, Inc., Lancaster, PA; Hughes Network Systems, LLC, Gaithersburg, MD; IFP Energies Nouvelles, Rueil-Malmaison, FRANCE; Micronika LLC, Perm, RUSSIAN FEDERATION; Mitsubishi Chemical Corporation, Chiyoda-ku, JAPAN; NEC Corporation, Minato-ku, JAPAN; NPO, SNGS, Soyuzneftegazservice, Moscow, RUSSIAN FEDERATION; Oil Field Instrumentation (India) Pvt. Ltd., Mumbai, INDIA; Petrotechnical Data Systems International Holding BV, Rijswijk, THE NETHERLANDS; REDCOM Laboratories Inc., Victor, NY; Sarder, Inc. d.b.a. NetCom Learning, New York, NY; Shared Spectrum Company, Vienna, VA; Smiths Interconnect Americas Inc., Blandon, PA; Systel, Inc., Sugar Land, TX; The Engineerix Group, McAllen, TX; Transpara LLC, Scottsdale, AZ; Trenton Systems, Inc., Lawrenceville, GA; Universidad Técnica Particular de Loja, Loja, ECUADOR; and Wellsite Software Ltd, Hatfield, UNITED KINGDOM, have been added as parties to this venture.

Also, 848 Solutions Limited, Stafford, UNITED KINGDOM; Advantech Corporation, Irvine, CA; Avistar Consulting Limited, Calgary, CANADA; B2B Learning sprl/bvba, Brussels, BELGIUM; Department of Defense—System Engineering, Fort Meade, MD; Dept of Pharmacology, School of Medicine, Keio University, Tokyo, JAPAN; DNV GL Business Assurance Norway AS, Høvik, NORWAY; Elasticsearch, Inc, Mountain View, CA; Energistics Consortium, Inc, Houston, TX; Great Software Laboratory Private Limited, Pune, INDIA; In2itive LLC, Alexandria, VA; Inspearit B.V., Bilthoven, THE NETHERLANDS; IT Management and Governance LLC, Falls Church, VA; Keross LLC, Dubai, UNITED ARAB EMIRATES; NVIDIA Corporation, Santa Clara, CA; Optic Earth Limited, Aberdeen, SCOTLAND; Relfex Photonics Corp, Bethlehem, PA; Riversand Technologies, Inc., Houston, TX; Silver Storm Solutions S.L., Valladolid, SPAIN; Target Energy Solutions, Ltd, Woking, UNITED KINGDOM; Vedanta Limited (Cairn Oil & Gas), Gurgaon, INDIA; and Vose Software NV, Sint-Amandsberg, BELGIUM, have withdrawn as parties to this venture.

Additionally, Cyber Assessments, Inc. has changed its name to VisibleRisk, Inc., New York, NY; and Viqtor Davis, Inc. to D3Clarity, Inc., Austin, TX.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on November 20, 2021. A notice was published in the Federal Register pursuant to Section 6(b) of the Act on January 13, 2022 (87 FR 2181).

Suzanne Morris,
Chief, Premerger and Division Statistics, Antitrust Division.

[FR Doc. 2022-05385 Filed 3-14-22; 8:45 am]

BILLING CODE P